DEPARTMENT OF LABOR

Employment and Training Administration

[TA-W-51,721]

Fishing Vessel (F/V) Towego, Ketchikan, AK; Notice of Revised Determination on Reconsideration

By letter of June 10, 2003, the company official requested administrative reconsideration of the Department's Negative Determination Regarding Eligibility for workers and former workers of Fishing Vessel (F/V) Towego, Ketchikan, Alaska to apply for worker adjustment assistance, under petition number TA-W-51,721. The notice was issued on May 13, 2003, and published in the Federal Register on June 3, 2003 (68 FR 33197).

The initial petition was denied because the investigation found that the workers provided a service for an unaffiliated firm.

New information provided by the company shows that the subject firm workers were engaged in employment related to the production of processed salmon. The subject firm lost at least 20 percent of its business with a salmon processor whose workers were certified eligible to apply for Trade Adjustment Assistance.

Conclusion

After careful review of the facts obtained in the reconsideration, I determine that workers of Fishing Vessel (F/V) Towego, Ketchikan, Alaska, qualify as adversely affected secondary workers under Section 222 of the Trade Act of 1974, as amended.

In accordance with the provisions of the Act, I make the following revised determination:

All workers of Fishing Vessel (F/V) Towego, Ketchikan, Alaska, who became totally or partially separated from employment on or after May 5, 2002, through two years from the date of certification, are eligible to apply for adjustment assistance under Section 223 of the Trade Act of 1974.

Signed in Washington, DC this 26th day of August, 2003.
Linda G. Poole,
Certifying Officer, Division of Trade Adjustment Assistance.

[FR Doc. 03-24700 Filed 9-29-03; 8:45 am]

BILLING CODE 4510-30-U